DEPARTMENT OF THE INTERIOR

Bureau of Indian Affairs

[178A2100DD/AAKC001030/A0A501010.999900 253G]

Indian Gaming; Approval of an Amendment to a Tribal-State Class III Gaming Compact in the State of Arizona

AGENCY: Bureau of Indian Affairs, Interior.

ACTION: Notice.

SUMMARY: The Tohono O'odham Nation of Arizona and State of Arizona negotiated an Agreement to Amend Compact between the Tohono O'odham Nation and the State of Arizona governing Class III gaming; this notice announces approval of the Agreement to Amend Compact.

DATES: This notice takes effect July 17, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Agreement to Amend Compact prohibits gaming in the Geographical Area with the exception of one gaming facility on the West Valley Trust Land, increases the number of Keno games to four within each of the Tribe's facilities, and allows for the operation of an additional five poker tables within each gaming facility. The Agreement to Amend Compact is approved. See 25 U.S.C. 2710(d)(8)(A).

Dated: July 7, 2017.
Michael S. Black,
Acting Assistant Secretary—Indian Affairs.

[FR Doc. 2017-14881 Filed 7-14-17; 8:45 am]

BILLING CODE 4337-15-P